DEPARTMENT OF HOMELAND SECURITY

Coast Guard

33 CFR Part 100

[CGD 11-06-004]

RIN 1625-AA08

Special Local Regulations for Marine Event; Sacramento River Bridge-to-Bridge Waterfront Festival, San Francisco Bay and Sacramento River, CA

AGENCY: Coast Guard, DHS.

ACTION: Notice of proposed rulemaking.

SUMMARY: The Coast Guard proposes to establish special local regulations in the navigable waters of the Sacramento River for a waterfront festival to be held on July 21 through July 23, 2006. The event includes boat racing, speed trials, water-skiing, and wakeboard competitions. The proposed special local regulations are intended to prohibit vessels and people from entering into or remaining within a regulated area in order to ensure the safety of participants and spectators.

DATES: Comments and related material must reach the Coast Guard on or before June 19, 2006.

ADDRESSES: You may mail comments and related material to the Waterways Safety Branch, U.S. Coast Guard Sector San Francisco, Yerba Buena Island, San Francisco, California 94130. The Waterways Safety Branch maintains the public docket for this rulemaking. Comments and material received from the public, as well as documents indicated in this preamble as being available in the docket, will become part of this docket and will be available for inspection or copying at the Waterways Safety Branch between 9 a.m. and 4 p.m., Monday through Friday, except Federal holidays.

FOR FURTHER INFORMATION CONTACT: Petty Officer Brian Clark, U.S. Coast Guard Sector San Francisco, at (415) 399-3440, or the 24-hour Sector Command Center at (415) 399-3547.

SUPPLEMENTARY INFORMATION:

Request for Comments

We encourage you to participate in this rulemaking by submitting comments and related material. If you do so, please include your name and address, identify the docket number for this rulemaking CGD 11-06-004, indicate the specific section of this document to which each comment applies, and give the reason for each comment. Please submit all comments and related material in an unbound format, no larger than 8½ by 11 inches, suitable for copying. If you would like to know that your submission reached us, please enclose a stamped, self-addressed postcard or envelope. We will consider all comments and material received during the comment period. We may change this proposed rule in view of them.

Public Meeting

We do not plan to hold a public meeting at this time. But you may submit a request for a meeting by writing to the Waterways Safety Branch at the address under ADDRESSES explaining why one would be beneficial. If we determine that one would aid this rulemaking, we will hold one at a time and place announced by a separate notice in the Federal Register.

Background and Purpose

The Sacramento Convention and Visitors Bureau, is sponsoring a waterfront festival on July 21, 22, and 23, 2006 in the waters of the Sacramento River in Downtown Sacramento. The marine event includes boat racing, speed trials, water-skiing, and wakeboard competitions and is meant for entertainment purposes. The event name, “Bridge to Bridge Waterfront Festival”, references the center of the activity, which is located between the Tower Bridge and the I Street Bridge.

In order to protect spectators, participants, vessels, and other property from the hazards associated with the high-speed vessel exhibitions that will be on display, we propose to establish special local regulations that will create a temporary regulated area around the event located on the Sacramento waterfront.

Discussion of Rule

The Coast Guard proposes to establish temporary special local regulations on all navigable waters of the Sacramento River in an area approximately four thousand yards long by two hundred yards wide, bounded by the following positions: 38° 35′49.0″ N, 121° 30′30.0″ W; thence to 38° 35′49.0″ N, 121° 30′23.0″ W; thence to 38° 33′40.0″ N, 121° 30′59.0″ W; thence to 38° 33′46.0″ N, 121° 31′11.0″ W; thence returning to the point of origin. These regulations will be in effect during boat races, speed trials, wakeboard competitions, and water-skiing events scheduled between 12 p.m. and 5 p.m. on July 21, between 9 a.m. and 5 p.m. on July 22, and between 9 a.m. and 4 p.m. on July 23, 2006.

The effect these proposed temporary special local regulations will be to restrict general navigation in the Sacramento River extending from the mouth of the American River south to the entrance of the Miller Park Marina during scheduled events. Except for persons or vessels authorized by the Coast Guard Patrol Commander, no person or vessel may enter or remain in the regulated area during specified times. The Patrol Commander of the event will allow vessel traffic to pass through the event area from approximately 2 p.m. to 2:30 p.m. on July 21, 2006, and from 12 p.m. to 12:30 p.m. on July 22 and July 23, 2006. These regulations are needed to keep spectators and vessels a safe distance away from the waterfront festival during scheduled events in order to protect spectators, participants, vessels, and other property from the hazards associated with the high-speed vessel exhibitions that will be on display.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary.

Although these proposed special local regulations will restrict boating traffic within a portion of the Sacramento River, the effect of this proposed rule will not be significant as the regulated area will be short in duration, the Bridge to Bridge Waterfront Festival is meant for public entertainment, and access to pass through the area will be permitted each day during designated times. The entities most likely to be affected are pleasure craft engaged in recreational activities and sightseeing.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities for several reasons: (i) This proposed rule will encompass only a small portion of the waterway for a limited period of time, (ii) access to pass through the area will be permitted each day during designated times, and (iii) the maritime public will be advised in advance of these special local regulations via public notice to mariners. The small entities most likely to be affected by this proposed rule are owners and operators of pleasure craft engaged in recreational activities and sightseeing.

If you think that your business, organization, or government jurisdiction qualifies as a small entity and that this rule would have a significant economic impact on it, please submit a comment (See ADDRESSES) explaining why you think it qualifies and how and to what degree this rule would economically affect it.

Assistance For Small Entities

Under section 213(a) of the Small Business Regulatory Enforcement Fairness Act of 1996 (Pub. L. 104-121), we want to assist small entities in understanding this proposed rule so that they can better evaluate its effects on them and participate in the rulemaking process. If the rule will affect your small business, organization, or government jurisdiction and you have questions concerning its provisions, options for compliance, or assistance in understanding this rule, please contact Petty Officer Brian Clark, U.S. Coast Guard Sector San Francisco, at (415) 399-3440.

The Coast Guard will not retaliate against small entities that question or complain about this rule or any policy or action of the Coast Guard.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this proposed rule elsewhere in this preamble.

Taking of Private Property

This proposed rule will not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not create an environmental risk to health or risk to safety that may disproportionately affect children.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this proposed rule is categorically excluded, under figure 2-1, paragraph (34)(h), of the Instruction, from further environmental documentation. Special local regulations issued in conjunction with a regatta or marine parade permit are specifically excluded from further analysis and documentation under those sections.

A draft “Environmental Analysis Check List” and a draft “Categorical Exclusion Determination” (CED) will be available in the docket where indicated under ADDRESSES. Comments on this section will be considered before we make the final decision on whether the rule should be categorically excluded from further environmental review.

List of Subjects in 33 CFR Part 100

Marine safety, Navigation (water), Reporting and recordkeeping requirements, Waterways.

For the reasons discussed in the preamble, the Coast Guard amends 33 CFR part 100 as follows:

PART 100—SAFETY OF LIFE ON NAVIGABLE WATERS

1. The authority citation for part 100 continues to read as follows:

Authority: 33 U.S.C. 1233, Department of Homeland Security Delegation No. 0170.1.

2. Add temporary § 100.35-T11-088 to read as follows:

§ 100.35-T11-088 Sacramento River Bridge-to-Bridge Waterfront Festival, San Francisco Bay and Sacramento River, CA.

(a) Regulated Area. A regulated area is established for all navigable waters of the Sacramento River in an area approximately four thousand yards long by two hundred yards wide, bounded by the following positions: 38° 35′49.0″ N, 121°30′30.0″ W; thence to 38°35′49.0″ N, 121°30′23.0″ W; thence to 38° 33′40.0″ N, 121°30′59.0″ W; thence to 38°33′46.0″ N, 121°31′11.0″ W; thence returning to the point of origin. This area includes the portion of the Sacramento River extending from the mouth of the American River south to the entrance of the Miller Park Marina.

(b) Definitions. (1) Coast Guard Patrol Commander means a commissioned, warrant, or petty officer of the Coast Guard who has been designated by the Commander, Coast Guard Sector San Francisco.

(2) Official Patrol means any vessel assigned or approved by Commander, Coast Guard Sector San Francisco with a commissioned, warrant, or petty officer on board and displaying a Coast Guard ensign.

(c) Special Local Regulations. (1) Except for persons or vessels authorized by the Coast Guard Patrol Commander, no person or vessel may enter or remain in the regulated area.

(2) The operator of any vessel in the regulated area shall:

(i) Stop the vessel immediately when directed to do so by any Official Patrol.

(ii) Proceed as directed by an Official Patrol.

(d) Enforcement Period. This section will be enforced from 12 p.m. to 5 p.m. on July 21, 9 a.m. to 5 p.m. on July 22, and from 9 a.m. to 4 p.m. on July 23, 2006. The Patrol Commander of the event will allow vessel traffic to pass through the event area from approximately 2 p.m. to 2:30 p.m. on July 21, 2006 and from 12 p.m. to 12:30 p.m. on July 22 and July 23, 2006. If the event concludes prior to the scheduled termination time, the Coast Guard will cease enforcement of the special local regulations and will announce that fact via Broadcast Notice to Mariners.

Dated: April 30, 2006.
J.A. Breckenridge,
Rear Admiral, U.S. Coast Guard, Commander, Eleventh Coast Guard District.

[FR Doc. E6-7610 Filed 5-18-06; 8:45 am]

BILLING CODE 4910-15-P